DEPARTMENT OF DEFENSE

Department of the Army; Corps of Engineers

Revised Notice of Intent To Prepare a joint Environmental Impact Statement/Environmental Impact Report for the Southport Sacramento River Early Implementation Project, West Sacramento, CA

AGENCY: Department of the Army, U.S. Army Corps of Engineers; DoD.

ACTION: Notice of Intent.

SUMMARY: This notice is a revision of the Notice of Intent published August 26, 2011 (76 FR 53423). Pursuant to the National Environmental Policy Act of 1969, as amended, and the California Environmental Quality Act (CEQA), the U.S. Army Corps of Engineers (USACE) is preparing an Environmental Impact Statement/Environmental Impact Report (EIS/EIR) under Section 14 of the Rivers and Harbors Act of 1899 (as amended) (33 U.S.C. 408), and Section 404 of the Clean Water Act (33 U.S.C. 1344), for the proposed Southport Sacramento River Early Implementation Project (EIP), sponsored by the West Sacramento Area Flood Control Agency (WSAFCA). Figures of the project area can be viewed at http://www.cityofwestsacramento.org/city/flood. WSAFCA is planning the Southport Sacramento River EIP to implement flood-risk management measures along the Sacramento River South Levee in the City of West Sacramento, Yolo County, CA. Since publication of the 2011 Notice of Intent, WSAFCA has expanded the study area to include additional potential soil borrow sites. Material from these borrow sites may be used as part of project construction. The potential construction area extends along the right (west) bank of the Sacramento River south of the Barge Canal downstream approximately 6 miles to the South Cross Levee, adjacent to the Southport community of West Sacramento. The potential soil borrow sites are located to the east and west of southern Jefferson Blvd.; adjacent to the construction area; immediately west of the Sacramento Deep Water Ship Channel; and south of the South Cross Levee. In order to implement the project, the sponsor must receive permission from USACE to alter the Federal project under Section 14 of the Rivers and Harbors Act of 1899 (as amended) (33 U.S.C. 408 or, Section 408). USACE also has authority under Section 404 of the Clean Water Act (33 U.S.C. 1344) over activities involving the discharge of dredged or fill material to waters of the United States, which are known to be in the project area. The project would bring the levee up to current Federal and state levee design standards, and provide some opportunities for ecosystem restoration and public recreation. USACE, acting as the federal lead agency under NEPA, and WSAFCA, acting as the state lead agency under the CEQA in coordination with the Central Valley Flood Protection Board, have determined that an EIS/EIR should be prepared to describe alternatives, potential environmental effects, and mitigation measures.

DATES: Written comments regarding the scope of the environmental analysis should be received by April 8, 2013.

ADDRESSES: Written comments concerning this study and requests to be included on the Southport Sacramento River Early Implementation Project mailing list should be submitted to Ms. Tanis Toland, U.S. Army Corps of Engineers, Sacramento District, Attn: Planning Division (CESPK-PD-R), 1325 J Street, Sacramento, CA 95814.

FOR FURTHER INFORMATION CONTACT: Ms. Tanis Toland via telephone at (916) 557-6717, email: Tanis.J.Toland@usace.army.mil or regular mail at (see ADDRESSES).

SUPPLEMENTARY INFORMATION: 1. Proposed Action. WSAFCA is proposing a project along the Sacramento River west levee under the California Department of Water Resources' Early Implementation Program to expeditiously complete flood-risk reduction measures. Known as the Southport Sacramento River EIP, the project proposes implementation of flood-risk reduction measures along a 6-mile long reach between the Barge Canal downstream to the South Cross Levee. Improvements to the levee would address through-seepage, under-seepage, and embankment instability (e.g., overly steepened slopes). As part of the project, an EIS/EIR is being prepared. USACE has authority under Section 14 of the Rivers and Harbors Act of 1899 (as amended) (33 U.S.C. 408), over alterations to federal flood control project levees and any such alterations as proposed by WSAFCA are subject to approval by USACE. USACE also has authority under Section 404 of the Clean Water Act (33 U.S.C. 1344) over activities involving the discharge of dredged or fill material to waters of the United States, which are known to be in the project area. Under Section 10 of the Rivers and Harbors Act, the District Engineer may permit activities which do not affect navigable waters. Due to these authorities, USACE is the lead agency for the EIS pursuant to NEPA. WSAFCA is the lead agency for the EIR according to CEQA as the public agency that has the principal responsibility for carrying out and approving the project.

2. Alternatives. The EIS/EIR will consider several alternatives for reducing flood damage. Each alternative analyzed during the investigation will consist of a combination of several measures to reduce the risk of flooding. These measures include, but are not limited to, installing slurry cutoff walls, constructing seepage or stability berms, relief wells, rock slope protection, slope flattening, and potential new levee alignments (setback or adjacent levees).

3. Scoping Process.

a. Public scoping meetings were held on September 15, 2011, to present information to the public and receive comments from the public on the project. An additional public scoping meeting will be held to present an overview of changes to the scope of the EIS/EIR since publication of the 2011 Notice of Intent, and to afford all interested parties with an opportunity to provide comments regarding the scope of analysis and potential alternatives. A public scoping meeting will be held on March 28, 2013, at 5:30 p.m. at the City of West Sacramento City Hall Galleria Room, 1110 W. Capitol Ave., West Sacramento, CA 95691. The presentation will begin at 6:00 p.m. Scoping comments previously submitted following publication of the original August 26, 2011, Notice of Intent are still valid and need not be resubmitted.

b. Potentially significant issues to be analyzed in depth in the EIS/EIR include effects on hydraulics, wetlands and other waters of the U.S., vegetation and wildlife resources, special-status species, aesthetics, cultural resources, recreation, land use, fisheries, agricultural resources, water quality, air quality, transportation, and socioeconomics; and cumulative effects of related projects in the study area.

c. USACE is consulting with the State Historic Preservation Officer to comply with the National Historic Preservation Act, and with the U.S. Fish and Wildlife Service and National Marine Fisheries Service to comply with the Endangered Species Act. USACE is also coordinating with the U.S. Fish and Wildlife Service to comply with the Fish and Wildlife Coordination Act.

d. A 45-day public review period will be provided for all interested parties, individuals, and agencies to review and comment on the draft EIS/EIR. All interested parties are encouraged to respond to this notice and provide a current address if they wish to be notified of the draft EIS/EIR circulation.

4. Availability. The draft EIS/EIR is currently scheduled to be available for public review and comment in Summer 2013.

Dated: March 7, 2013.
William J. Leady,
Colonel, U.S. Army, District Commander.

[FR Doc. 2013-05928 Filed 3-14-13; 8:45 am]

BILLING CODE 3720-58-P